DEPARTMENT OF THE INTERIOR

Bureau of Land Management

[LLNV912000 L13400000.PQ0000 LXSS0006F0000; 12-08807; MO# 4500103973; TAS: 14X1109]

Notice of Public Meetings: Mojave-Southern Great Basin Resource Advisory Council, Nevada

AGENCY: Bureau of Land Management, Interior.

ACTION: Notice.

SUMMARY: In accordance with the Federal Land Policy and Management Act and the Federal Advisory Committee Act of 1972, the Bureau of Land Management (BLM) Mojave-Southern Great Basin Resource Advisory Council (RAC) will meet as indicated below. The meeting is open to the public.

DATES: The RAC will meet on March 2, 2017, from 9:00 a.m. to 5:00 p.m. Members of the public will have the opportunity to make comments to the RAC during a public comment period from 1:00 to 1:30 p.m.

ADDRESSES: The meeting will be held in the 9th Floor Conference Room at the North Las Vegas City Hall, 2250 Las Vegas Boulevard North, North Las Vegas, Nevada 89030.

FOR FURTHER INFORMATION CONTACT: Tim Smith, District Manager, at 702-525-5000, Southern Nevada District Office, 4701 North Torrey Pines Drive, Las Vegas, NV 89130. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member Mojave-Southern Great Basin RAC was chartered to serve in an advisory capacity concerning the planning and management of the public land resources located within Nevada. Members represent an array of stakeholder interests from within the local area and statewide. All advisory council meetings are open to the public.

Persons wishing to make comments during the public comment period of the meeting should register in person with the BLM, at the meeting location, before the meeting's public comment period. Depending on the number of persons wishing to comment, the length of comments may be limited.

Topics for discussion at this meeting will include last year's accomplishments, the election of officers, goals for this year, the Las Vegas Resource Management Plan, and existing uses of and access to the Gold Butte National Monument. Managers' reports of District Office activities will also be given. The RAC may raise other topics at the meeting. The final agenda is posted on-line at the BLM Mojave-Southern Great Basin RAC Web site at http://bit.ly/2j8vR3Y.

Attendees should park in the south parking area instead of the customer parking area. Individuals who need special assistance, such as sign language interpretation or other reasonable accommodations, or who wish to receive a copy of each agenda, may contact the person listed above no later than 10 days prior to the meeting.

Stephen Clutter,
Chief, Office of Communications.

[FR Doc. 2017-03444 Filed 2-21-17; 8:45 am]

BILLING CODE 4310-HC-P